DEPARTMENT OF DEFENSE

Office of the Secretary

[Docket ID: DoD-2022-OS-0005]

Proposed Collection; Comment Request

AGENCY: Washington Headquarter Services (WHS), Department of Defense (DoD).

ACTION: 60-Day information collection notice.

SUMMARY: In compliance with the Paperwork Reduction Act of 1995, the Washington Headquarter Services announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 28, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Pentagon Force Protection Agency Parking Management Branch, Room 2D1039, 9000 Defense Pentagon, Washington, DC 20301-9000, Myrna Merced, 703-697-9864.

SUPPLEMENTARY INFORMATION: Title; Associated Form; and OMB Number: Pentagon Reservation Parking Permit Application; DD Form 1199; OMB Control Number 0704-0395.

Needs and Uses: WHS requires the collection of information from members of the public assigned to the Pentagon, Mark Center, and Suffolk buildings to obtain an authorized parking permit to park in a controlled parking facility without being enrolled in the Mass Transit Benefit Program. The authority is promulgated in 10 U.S.C. 2674 Operation and Control of Pentagon Reservation and Defense Facilities in National Capital Region; Administrative Instruction Number 88, Pentagon Reservation Vehicle Parking Program, and E.O. 9397 (SSN), as amended.

Affected Public: Individuals or households.

Annual Burden Hours: 350 hours.

Number of Respondents: 4,200.

Responses per Respondent: 1.

Annual Responses: 4,200.

Average Burden per Response: 5 minutes.

Frequency: On occasion.

Dated: January 19, 2022.
Aaron T. Siegel,
Alternate OSD Federal Register Liaison Officer, Department of Defense.

[FR Doc. 2022-01393 Filed 1-25-22; 8:45 am]

BILLING CODE 5001-06-P